DEPARTMENT OF TRANSPORTATION

Federal Aviation Administration

14 CFR Part 25

[Docket No. FAA-2015-6359; Special Conditions No. 25-633-SC]

Special Conditions: Bombardier Inc. Model BD-700-2A12 and BD-700-2A13 Airplanes; Airplane Electronic-System Security Protection From Unauthorized Internal Access

AGENCY: Federal Aviation Administration (FAA), DOT.

ACTION: Final special conditions; correction.

SUMMARY: This document corrects an error that appeared in Docket No. FAA-2015-6359, Special Conditions No. 25-633-SC, which was published in the Federal Register on August 22, 2016. The error is an incorrect word in the title of the final special conditions document.

DATES: The effective date of this correction is October 18, 2017.

FOR FURTHER INFORMATION CONTACT: Varun Khanna, FAA, Airplane and Flight Crew Interface, AIR-671, Aircraft Certification Service, 1601 Lind Avenue SW., Renton, Washington 98057-3356; telephone 425-227-1298; facsimile 425-227-1149.

SUPPLEMENTARY INFORMATION:

Background

On August 22, 2016, the Federal Register published a document designated as Docket No. FAA-2015-6359, Final Special Conditions No. 25-633-SC (81 FR 56474). The document issued special conditions pertaining to system security to protect against unauthorized access to digital systems architecture composed of several connected data networks that will have the capability to allow connectivity of the passenger-service computer systems to the airplane critical systems and data networks. As published, the document contained an error in the title of the special conditions document, stating “Authorized” where “Unauthorized” is correct.

Correction

In the final special conditions document (FR Doc. 2016-19994), published on August 22, 2016 (81 FR 56474), make the following correction.

On page 56474, first column, the special conditions title is corrected to read:

Special Conditions: Bombardier Inc. Model BD-700-2A12 and BD-700-2A13 Airplanes; Airplane Electronic-System Security Protection from Unauthorized Internal Access

Issued in Renton, Washington, on October 12, 2017.
Victor Wicklund,
Manager, Transport Standards Branch, Policy and Innovation Division, Aircraft Certification Service.

[FR Doc. 2017-22525 Filed 10-17-17; 8:45 am]

BILLING CODE 4910-13-P